COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List products and services to be furnished by nonprofit agencies employing persons who are blind or have other severe disabilities, and deletes from the Procurement List products and a service previously furnished by such agencies.

EFFECTIVE DATE: April 20, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions:

On January 18 and January 25, 2008, the Committee for Purchase From People Who Are Blind or Severely Disabled published notice (73 FR 3450; 4519) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products:

Paper, Copying, Xerographic—Convenience Pack

NSN: 7530-00-NIB-0814—Reamless

NSN: 7530-00-NIB-0826—Ream Wrapped

NPA: Association for Vision Rehabilitation and Employment, Inc., Binghamton, NY

Coverage: A—List for the total Government requirement as specified by the General Services Administration

Contracting Activity: General Services Administration, Office Supplies & Paper Products Acquisition Ctr, New York, NY

SKILCRAFT Wide Angle Broom

NSN: M.R. 1041

NPA: L.C. Industries For The Blind, Inc., Durham, NC

Coverage: C—List for the requirements of the Defense Commissary Agency, Fort Lee, VA

Contracting Activity: Defense Commissary Agency (DeCA), Fort Lee, VA

Services:

Service Type/Location: Base Supply Center, Fort Irwin, CA

NPA: The Lighthouse for the Blind, Inc. (Seattle Lighthouse), Seattle, WA

Contracting Activity: Department of the Army, National Training Center Acquisition Command, Fort Irwin, CA

Service Type/Location: Custodial Services, Border Patrol Station, Customs and Border Protection (CBP), 135 Trippany Road, Massena, NY

NPA: St. Lawrence County Chapter, NYSARC, Canton, NY

Contracting Activity: U.S. Department of Homeland Security, Washington, DC

Service Type/Location: Food Service Attendant, Naval Station Mayport (Basewide), Mayport, FL

NPA: Goodwill Industries of North Florida (GINFL) Services, Inc., Jacksonville, FL

Contracting Activity: Fleet and Industrial Supply Center—Jacksonville, Jacksonville, FL

Service Type/Location: Grounds Maintenance, Fort Jackson, Fort Jackson, SC

NPA: Employment Source, Inc., Fayetteville, NC

Contracting Activity: Army Contracting Agency, Fort Jackson, SC

Service Type/Location: Grounds Maintenance, Marine Corps Air Station, New River, Camp Geiger and Camp Johnson, Jacksonville, NC

NPA: Coastal Enterprises of Jacksonville, Inc., Jacksonville, NC

Contracting Activity: Naval Facilities Engineering Command (NAVFAC) Mid-Atlantic, Camp Lejeune, NC

Service Type/Location: Mail Support Services, Bureau of Public Debt, 200 Third Street, Parkersburg, WV

NPA: ServiceSource, Inc., Alexandria, VA

Contracting Activity: Department of the Treasury, Bureau of Public Debt, Parkersburg, WV

Service Type/Location: Mailroom Operations, Internal Revenue Service, 300 E 8th Street & 9430 Research Blvd, Austin, TX

NPA: Austin Task, Inc., Austin, TX

NPA: ServiceSource, Inc., Alexandria, VA (PRIME CONTRACTOR)

Contracting Activity: U.S. Department of the Treasury, Internal Revenue Service Headquarters, Oxon Hill, MD

Deletions:

On January 25, 2008, the Committee for Purchase From People Who Are Blind or Severely Disabled published notice (73 FR 4519) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products:

Aloud Digital Audio Labeling System

NSN: 6515-00-NIB-0226

NPA: Central Association for the Blind & Visually Impaired, Utica, NY

Contracting Activity: Veterans Affairs National Acquisition Center, Hines, IL

PRC Deck Recoating System

NSN: 8010-00-NIB-0012

NPA: Alphapointe Association for the Blind, Kansas City, MO

Contracting Activity: Fleet and Industrial Supply Center, Bremerton, WA

Service:

Service Type/Location: Janitorial/Custodial, Social Security Administration Building, 2700 N. Knoxville Avenue, Peoria, IL

NPA: Community Workshop and Training Center, Inc., Peoria, IL

Contracting Activity: General Services Administration, Public Buildings Service, Region 5, Springfield, IL

Kimberly M. Zeich,
Director, Program Operations.

[FR Doc. E8-5767 Filed 3-20-08; 8:45 am]

BILLING CODE 6353-01-P